DEPARTMENT OF THE INTERIOR

Bureau of Land Management

[L12200000.MV0000/LLCAC05000]

Notice of Final Supplementary Rules for Public Lands Managed by the Ukiah Field Office in Lake, Sonoma, Mendocino, Glenn, Colusa, Napa, Marin, Yolo and Solano Counties, CA

AGENCY: Bureau of Land Management, Interior.

ACTION: Final supplementary rules.

SUMMARY: In accordance with the Record of Decision (ROD) for the Ukiah Field Office Approved Resource Management Plan (RMP), the Bureau of Land Management (BLM) is establishing final supplementary rules. The Final Environmental Impact Statement (EIS) identified and thoroughly analyzed the effects of land use limitations and restrictions, and specified that supplementary rules would be required for resource protection and visitor safety. Upon publication, these final supplementary rules will supersede the interim final supplementary rules that apply to public lands within the Ukiah Field Office's jurisdiction. The BLM has determined that these final supplementary rules are necessary to enhance visitor safety, protect natural resources, improve recreation opportunities, and protect public health. These rules do not impose or implement any land use limitations and restrictions other than those included within the Ukiah RMP.

DATES: The final supplementary rules are effective February 13, 2013.

ADDRESSES: Bureau of Land Management, Ukiah Field Office, 2550 North State Street, Ukiah, CA 95482. The final supplementary rules are available for inspection at the Ukiah Field Office and on the Ukiah Field Office Web page (http://www.blm.gov/ca/st/en/fo/ukiah.html).

FOR FURTHER INFORMATION CONTACT: Jonna Hildenbrand, Bureau of Land Management, Ukiah Field Office, 2550 North State Street, Ukiah, California 95482, 707-468-4024, or email jhildenb@ca.blm.gov.

SUPPLEMENTARY INFORMATION:

I. Background

II. Public Comment and Discussion of Final Supplementary Rules

III. Procedural Matters

I. Background

The BLM is establishing these final supplementary rules under the authority of 43 CFR 8365.1-6, which allows BLM State Directors to establish supplementary rules for the protection of persons, property, and public lands and resources. This provision allows the BLM to issue rules of less than national effect without codifying the rules in the Code of Federal Regulations. These final supplementary rules apply to public lands managed by the Ukiah Field Office in Lake, Sonoma, Mendocino, Glenn, Colusa, Napa, Marin, Yolo, and Solano Counties of California. Maps of the management areas and boundaries can be obtained by contacting the Ukiah Field Office (see ADDRESSES) or by accessing the following Web site http://www.blm.gov/ca/st/en/fo/ukiah. The final supplementary rules will be available for inspection at the Ukiah Field Office http://www.blm.gov/ca/st/en/fo/ukiah.

II. Public Comment and Discussion of Final Supplementary Rules

The BLM published interim final supplementary rules on June 2, 2011 (76 FR 31979). The rules became effective immediately upon publication with the BLM having set forth good cause for such in the preamble language, which detailed unsafe target shooting practices, resource degradation, and the presence of critical habitat. The BLM invited public comments on the interim rules for 60 days. The comment period closed on August 1, 2011. No comments were received during this period.

The final supplementary rules have been clarified, mapping efforts explained, definitions refined, and typographical and grammatical errors corrected. In Sections 2 and 3, all references to “interim final supplementary rules of conduct” and “interim supplementary rules” have been deleted and, in appropriate instances, have been replaced with text indicating that these are now final supplementary rules.

III. Procedural Matters

Executive Order 12866, Regulatory Planning and Review

These supplementary rules are not a significant regulatory action and are not subject to review by the Office of Management and Budget under Executive Order 12866. These supplementary rules will not have an annual effect of $100 million or more on the economy or adversely affect, in a material way, the economy, productivity, competition, jobs, the environment, public health or safety, or State, local or tribal governments or communities. These final supplementary rules will not create a serious inconsistency or otherwise interfere with an action taken or planned by another agency. These supplementary rules do not materially alter the budgetary effects of entitlements, grants, user fees, or loan programs or the rights or obligations of their recipients; nor do they raise novel legal or policy issues. These rules merely contain rules of conduct for public use of a limited portion of the public lands in California in order to provide protection for human health, safety, and the environment.

National Environmental Policy Act

The BLM prepared a draft and final EIS on the RMP and has determined that the rules would not constitute a major Federal action significantly affecting the quality of the human environment under Section 102(2)(C) of the National Environmental Policy Act (NEPA), 42 U.S.C. 4332(2)(C). The final supplementary rules, limitations, and associated effects were thoroughly analyzed under NEPA in the draft and final EIS for the Ukiah RMP as well as in various environmental assessments for activity-level plans adopted in the Ukiah RMP. The draft EIS was published in the Federal Register and posted on the Ukiah Field Office Web site for a 90-day period from September 16, 2005, through December 15, 2005. The proposed RMP and final EIS were published in the Federal Register and posted on the Ukiah Field Office Web site for a 30-day protest period from June 30, 2006, through July 30, 2006. The final EIS and ROD are on file and available to the public at the address specified in ADDRESSES. The final EIS and ROD are online at the Web site specified in ADDRESSES.

Regulatory Flexibility Act

Congress enacted the Regulatory Flexibility Act (RFA) of 1980, as amended, 5 U.S.C. 601-612, to ensure that government regulations do not unnecessarily or disproportionately burden small entities. The RFA requires a regulatory flexibility analysis if a rule would have a significant economic impact, either detrimental or beneficial, on a substantial number of small entities. These supplementary rules merely establish rules of conduct for public recreational use of a limited area of public lands. Therefore, the BLM has determined under the RFA that these supplementary rules would not have a significant economic impact on a substantial number of small entities.

Small Business Regulatory Enforcement Fairness Act (SBREFA)

These supplementary rules do not constitute a “major rule” as defined at 5 U.S.C. 804(2). These supplementary rules merely contain rules of conduct for recreational use of a limited area of public lands and do not affect commercial or business activities of any kind.

Unfunded Mandates Reform Act

These supplementary rules do not impose an unfunded mandate on State, local, or tribal governments, in the aggregate, or on the private sector, of $100 million or more per year; nor do they have a significant or unique effect on small governments. The supplementary rules have no effect on State, local, or tribal governments and do not impose any requirements on any of these entities. Therefore, the BLM is not required to prepare a statement containing the information required by the Unfunded Mandates Reform Act (2 U.S.C. 1531 et seq.).

Executive Order 12630, Governmental Actions and Interference With Constitutionally Protected Property Rights (Takings)

These supplementary rules are not government action capable of interfering with constitutionally protected property rights. These supplementary rules do not address property rights in any form, and do not cause the impairment of one's property rights. Therefore, the BLM has determined that these supplementary rules would not cause a “taking” of private property or require further discussion of takings implications under this Executive Order.

Executive Order 13132, Federalism

These supplementary rules will not have a substantial direct effect on the States, on the relationship between the national government and the States, or on the distribution of power and responsibilities among the various levels of government. These supplementary rules affect land in only one State, California, and do not conflict with any California State law or regulation. Therefore, in accordance with Executive Order 13132, the BLM has determined that these supplementary rules do not have sufficient Federalism implications to warrant preparation of a Federalism Assessment.

Executive Order 12988, Civil Justice Reform

Under Executive Order 12988, the BLM has determined that these supplementary rules will not unduly burden the judicial system and that they meet the requirements of Sections 3(a) and 3(b)(2) of the Order.

Executive Order 13175, Consultation and Coordination With Indian Tribal Governments

In accordance with Executive Order 13175, the BLM has found that these supplementary rules do not include policies that have tribal implications. The supplementary rules do not affect lands held for the benefit of Indians, Aleuts, or Eskimos, Indian resources, or tribal property rights. To comply with Executive Orders regarding government-to-government relations with Native Americans, formal and informal contacts were made with 26 federally recognized and 2 non-recognized tribal governments with interests in the affected area. The tribes were provided with a copy of the draft RMP. In addition, the BLM contacted each tribe directly requesting comments and assessing the need for a tribal briefing. The tribes expressed no concerns about the RMP or the decisions related to these supplementary rules.

Information Quality Act

The Information Quality Act (Section 515 of Pub. L. 106-554) requires that Federal agencies maintain adequate quality, objectivity, utility, and integrity of the information that they disseminate. In developing these supplementary rules, the BLM did not conduct or use a study, experiment, or survey or disseminate any information in developing these supplementary rules.

Executive Order 13211, Effects on the Nation's Energy Supply

These supplementary rules are not a significant energy action, as defined in Executive Order 13211. The rules will not have a significant adverse effect on the supply, distribution, or use of energy and have no connection with energy policy.

Paperwork Reduction Act

These supplementary rules do not contain information collection requirements that the Office of Management and Budget must approve under the Paperwork Reduction Act, 44 U.S.C. 3501 et seq.

Author

The principal author of these supplementary rules is Rich Burns, Field Manager, Ukiah Field Office.

For the reasons stated in the preamble and under the authority for supplementary rules found in 43 CFR 8365.1-6, the California State Director, Bureau of Land Management, issues these supplementary rules, effective upon publication for good cause shown at 76 FR 31980 (June 2, 2011) for public lands managed by the Ukiah Field Office to read as follows:

Supplementary Rules for all the Public Lands Within the Jurisdiction of the Ukiah Field Office

Section 1. Definitions

Camping means the use of tents or shelters of natural or synthetic material, preparing a sleeping bag or other bedding material for use, or mooring of a vessel, or parking a vehicle or trailer for the apparent purpose of overnight occupancy.

Cave Resource means any material or substance occurring naturally in caves on Federal lands, such as animal or plant material, paleontological deposits, sediments, minerals, speleogens (bedrock formations), and speleothems (secondary mineral deposits).

Cliff means a very steep, vertical or overhanging face of rock or earth.

Climbing means all gear-assisted and non-gear assisted ascent or descent, especially by using both hands and feet.

Firearm means any device designed to be used as a weapon, from which a projectile by the force of an explosion or other form of combustion is expelled through a barrel.

Fireworks means a device for producing a striking display or noise by the combustion of explosive or flammable compositions including those that are defined as legal for sale within the State of California, also known as “safe and sane” fireworks.

Frontcountry is a Recreation Opportunity Spectrum (ROS) designation that means an area that represents a broad mix of uses.

Hang Gliding and Paragliding means the use of all non-motorized, foot-launched aircraft.

Hunting means the pursuit of game by any person in possession of a current legal California hunting license in accordance with State law.

Motorized Vehicle means any vehicle that is self-propelled or propelled under the California Vehicle Code Section 415 and Section 670.

Middlecountry is an ROS designation that means an area generally with naturally appearing landscape except for primitive roads (dirt or graveled surface roads). Trails are maintained and marked with simple trailhead developments, signs and basic sanitation facilities.

Off-Highway Vehicle (OHV) means any motorized vehicle capable of, or designed for, travel on or immediately over land, water, or other natural terrain, not excluded by 43 CFR 8340.0-7(a).

Open Fire means all fire with an exposed flame such as wood fires, campfires, charcoal barbecues, or camp stoves outside of fire rings, which are located in designated developed recreational sites.

Projectile means any bullet, ball, sabot, slug, buckshot, arrow, or other object that is propelled from a device.

Recreation Opportunity Spectrum (ROS) means a method of inventorying existing physical and social conditions.

Shooting means the discharge of a weapon for non-hunting purposes.

Sink Hole means a natural depression or hole in surface topography caused by the removal of soil or bedrock by water.

Street Legal Vehicle means any vehicle subject to registration under the California Vehicle Code (Section 4000(a)).

Weapon means any firearm, crossbow, bow and arrow, air or gas paintball gun, fireworks or explosive device capable of propelling a projectile by means of an explosion, compressed air, string, or spring.

Section 2. Rules of Conduct

The following rules apply year round to all BLM lands managed by the Ukiah Field office and persons unless explicitly stated otherwise in a particular rule. Specific rules for individual management areas are identified in subparts b, c and d. Additionally, the following persons are exempt from these supplementary rules: Federal, State, or local officers or employees acting within the scope of their official duties; members of any organized rescue or firefighting force in performance of an official duty; and any person whose activities are authorized in writing by the BLM Authorized Officer.

a. The following rules apply to all public lands within the Ukiah Field Office jurisdiction.

1. All lands managed by the Ukiah Field Office, with the exception of wilderness study areas, are designated as limited to designated routes for motorized and off-highway vehicle use (43 CFR 8340.0-5(g)).

2. All routes are closed to motorized vehicles unless designated as open within the Resource Management Plan.

3. The use or possession of fireworks is prohibited.

4. Hunting is allowed except where specifically prohibited.

5. Management areas and ROS zones within the management areas will be delineated on maps provided to the public.

b. The following rules apply to all designated Scattered Tracts Management Areas within the jurisdiction of the Ukiah Field Office.

Scattered tracts are BLM lands that are covered by the Resource Management Plan but are not contiguous to any other management area. These tracts are mostly small parcels of public land surrounded by private property making them inaccessible to the public. Scattered tracts total approximately 47,000 acres and are found in every county containing public lands within the Ukiah Field Office jurisdiction. The use of weapons is prohibited except when hunting.

c. The following rules apply to all designated Areas of Critical Environmental Concern (ACEC) and Research Areas within the jurisdiction of the Ukiah Field Office.

It is prohibited to deface, remove, or destroy plants or their parts, soil, rocks, minerals, or cave resources within the following areas: Lost Valley—40 acres (Cow Mountain Management Area, Mendocino County); Knoxville—5,236 acres (Knoxville Management Area, Lake County); Walker Ridge—3,685 acres (Indian Valley Management Area, Lake and Colusa Counties); Indian Valley Brodiaea—100 acres (Indian Valley Management Area, Lake County); Cache Creek—11,228 acres (Cache Creek Management Area, Lake, Colusa, and Yolo counties); Northern California Chaparral Research Area—11,206 acres (Cache Creek Management Area, Lake County); Cedar Roughs Research Natural Area—6,350 acres (Scattered Tracts Management Area, Napa County); Stornetta—887 acres (Stornetta Management Area, Mendocino County); Black Forest—247 acres (Scattered Tracts Management Area, Lake County); and The Cedars of Sonoma County—1,500 acres (Scattered Tracts Management Area, Sonoma County).

d. The following rules apply to Cache Creek, Cow Mountain, Knoxville, Geysers, Indian Valley, and Stornetta Management Areas and The Black Forest and The Cedars of Sonoma County within the jurisdiction of the Ukiah Field Office.

Cache Creek Management Area

Cache Creek encompasses approximately 73,000 acres of public land. It includes the Cache Creek Natural Area, Cache Creek ACEC and the Cache Creek Wilderness Area. Cowboy Camp is a developed recreation site there with a day use area, an overnight parking area, and a group camp site. High Bridge is a developed recreation site there with a day use area and overnight parking area.

1. Use of weapons is prohibited except when hunting.

2. Defacing, removing, or destroying plants or their parts, soil, rocks, minerals, or cave resources are prohibited.

3. Motorized and Street Legal Vehicles and horses are allowed in the Cowboy Camp group camp site from the third Saturday in April through the third Saturday in November.

4. Camping is limited to the group camp site within the cowboy camp developed recreation site.

5. High Bridge and Cowboy Camp developed recreation sites are open for day use only from one-half hour before sunrise to one-half hour after sunset except for long-term parking for overnight backcountry visitors.

Cow Mountain Management Area

Cow Mountain is comprised of approximately 51,000 acres of public lands and is divided into North and South Cow Mountain. The use of weapons is limited to designated shooting areas except when hunting.

South Cow Mountain OHV (Portion) of Cow Mountain Management Area

1. Operating a motorized vehicle is prohibited within South Cow Mountain OHV unit during wet weather closures (resulting from accumulated precipitation) or administrative closures.

2. Wet Weather Closure—When total annual (beginning and measured as of October 1st of each year) precipitation exceeds 4 inches, at least one-half inch of precipitation has fallen in 24 hours or 1 inch in 72 hours, and the authorized officer has determined that motorized vehicles will cause considerable adverse effects upon the soil, vegetation, wildlife, and other resources, the authorized officer, pursuant to 43 CFR 8341.2, will implement a temporary closure of all existing roads, existing trails and public lands within the management area to all motorized vehicles for a minimum of 3 days. Once the area has been closed, a field inspection will be completed prior to reopening and daily thereafter to determine suitability of road and trail conditions. When field observations show that motorized vehicle use can occur without causing considerable adverse effects as described in 43 CFR 8341.2, the temporary closure will be terminated. Exceptions to this temporary closure will only be allowed for valid existing rights (private landowners, landowners' representatives, lessees, and/or authorized parties) who need access to their property. Landowners, landowners' representatives, lessees, and/or authorized parties will only be able to access their property via the most direct route and are not allowed to use a motorized vehicle on any other part of the South Cow Mountain OHV Area. This policy is subject to modification due to changing resource conditions which may include immediate closure due to adverse effects (43 CFR 8341.2).

North Cow Mountain (Portion) of Cow Mountain Management Area

1. The Mendo-Rock Road, Water Tank Spur, Willow Creek Road, Rifle Range Road, Radio Tower Road, Rifle Range Maintenance Spur, and Mayacmas Campground Road are open year round and limited to street legal vehicles only.

2. Roads open during general (rifle) deer season and limited to street legal vehicles only are Firebreak #1, McClure Creek Ridge Spur, McClure Creek Spur, Sulphur Creek Spur, and Sulphur Creek Ridge Spur.

3. All other roads are closed year round to street legal, off-highway and motorized vehicles.

Knoxville Management Area

The Knoxville area contains approximately 24,000 acres of public lands.

1. Use of weapons is prohibited except when hunting.

2. Adams Ridge Road is open to street legal vehicles during general (rifle) deer season.

Geysers Management Area

The Geysers Management Area encompasses about 7,100 acres of public lands.

Shooting is allowed in ROS zone Middlecountry.

Indian Valley Management Area

Shooting is allowed in ROS zones Middlecountry and Frontcountry.

Black Forest/The Cedars of Sonoma County Lands

Black Forest includes 247 acres of public lands on Mount Konocti just south of Soda Bay on Clear Lake.

The Cedars of Sonoma County includes 1,500 acres of public lands and is located 2 miles northeast of the Austin Creek State Recreation Area.

1. Motorized and off-highway vehicle use is prohibited.

2. Climbing on the cliffs is prohibited.

3. Use of weapons is prohibited except when hunting.

Stornetta Management Area

The 1,132-acre Stornetta Management Area is located along the Mendocino County coastline just north of the town of Point Arena.

1. Use of weapons is prohibited.

2. Hunting is prohibited.

3. Hang gliding or paragliding is prohibited.

4. Camping is prohibited.

5. The area is open for day use only from one-half hour before sunrise to one-half hour after sunset.

6. Use of motorized vehicles is prohibited.

7. Beach access is permitted only at the designated access trails marked by signs. These locations are mile marker 1.4 and 2.3 from the Highway 1 and Lighthouse Road intersection.

8. Climbing on cliffs and in or around sink holes is prohibited.

9. Dogs must be on a leash no longer than 6 feet or otherwise physically restricted at all times.

10. Open fires are prohibited.

11. Cutting or collecting firewood is prohibited.

12. Feeding or harassing wildlife is prohibited.

13. Physical removal of any resources including, but not limited to, vegetation, animals, driftwood, and shells, is prohibited.

Section 3. Penalties

Any person who violates any of these supplementary rules may be tried before a United States Magistrate and fined no more than $1,000 or imprisoned for no more than 12 months, or both. 43 U.S.C. 1733(a); 43 CFR 8360.0-7. Such violations may also be subject to the enhanced fines provided for by 18 U.S.C. 3571.

James G. Kenna,
California State Director.

[FR Doc. 2013-03282 Filed 2-12-13; 8:45 am]

BILLING CODE 4310-40-P